DEPARTMENT OF COMMERCE

International Trade Administration

[C-570-046]

1-Hydroxyethylidene-1,1-Diphoshonic Acid From the People's Republic of China: Rescission of 2016-2018 Countervailing Duty Administrative Review

AGENCY: Enforcement and Compliance, International Trade Administration, Department of Commerce.

SUMMARY: The Department of Commerce (Commerce) is rescinding the administrative review of the countervailing duty (CVD) order on 1-Hydroxyethylidene-1,1-Diphoshonic Acid (HEDP) from the People's Republic of China (China) for the period of review (POR), November 14, 2016, through April 30, 2018.

DATES: Applicable February 1, 2019.

FOR FURTHER INFORMATION CONTACT: Annathea Cook, AD/CVD Operations, Office V, Enforcement and Compliance, International Trade Administration, U.S. Department of Commerce, 1401 Constitution Avenue NW, Washington, DC 20230; telephone 202.482.0250

SUPPLEMENTARY INFORMATION:

Background

On May 1, 2018, Commerce published in the Federal Register a notice of opportunity to request an administrative review of the CVD order on HEDP from China for the POR.¹ On April 2, 2018, Commerce received a timely request for review by Compass Chemical International LLC (the petitioner), in accordance with section 751(a) of the Tariff Act of 1930, as amended (the Act) and 19 CFR 351.213(b), to conduct an administrative review of this CVD order.² On July 12, 2018, Commerce published in the Federal Register a notice of initiation of an administrative review of the countervailing duty order on HEDP from China, covering the POR.³ On October 19, 2018, the petitioner timely withdrew its request for an administrative review.⁴

¹ See Antidumping or Countervailing Duty Order, Finding, or Suspended Investigation; Opportunity To Request Administrative Review, 83 FR 19047 (May 1, 2018).

² See letter from the petitioner regarding, “Request for Administrative Review: 1-Hydroxyethylidene-1, 1-Diphosphonic Acid from the People's Republic of China,” dated May 30, 2018.

³ See Initiation of Antidumping and Countervailing Duty Administrative Reviews, 83 FR 32270 (July 12, 2018).

⁴ See letter from the petitioner regarding, “1-Hydroxyethylidene-1, 1-Diphosphonic Acid from the People's Republic of China,” dated October 19, 2018.

Rescission of Review

Pursuant to 19 CFR 351.213(d)(1), the Secretary will rescind an administrative review, in whole or in part, if a party who requested the review withdraws the request within 90 days of the date of publication of notice of initiation of the requested review. As noted above, the petitioner withdrew its request for review by the 90-day deadline, and no other party requested an administrative review of this order. Therefore, we are rescinding the administrative review of the CVD order on HEDP from China covering the period November 14, 2016, through April 30, 2018.

Assessment

Commerce will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). Commerce intends to issue appropriate assessment instructions directly to CBP 15 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation. This notice is issued and published in accordance with section 777(i)(1) of the Act and 19 CFR 351.213(d)(4).

Dated: December 20, 2018.
James Maeder,
Associate Deputy Assistant Secretary for Antidumping and Countervailing Duty Operations performing the duties of Deputy Assistant Secretary for Antidumping and Countervailing Duty Operations.

[FR Doc. 2019-00750 Filed 1-31-19; 8:45 am]

BILLING CODE 3510-DS-P